DEPARTMENT OF COMMERCE

National Oceanic and Atmospheric Administration

50 CFR Part 622

[I.D. 091704A]

South Atlantic Fishery Management Council; Informational Public Hearings

AGENCY: National Marine Fisheries Service (NMFS), National Oceanic and Atmospheric Administration (NOAA), Commerce.

ACTION: Notice of public hearings.

SUMMARY: The South Atlantic Fishery Management Council (Council) will hold a series of five public hearings for proposed actions specified in Draft Amendment 15 to the Fishery Management Plan (FMP) for Coastal Migratory Pelagic Resources in the Atlantic and Gulf of Mexico. The Amendment addresses the current moratorium for the commercial king mackerel fishery and changes in the fishing year for both king mackerel and Spanish mackerel in the Atlantic.

DATES: The hearings will be held in October 2004. See SUPPLEMENTARY INFORMATION for specific dates, locations, and times. Written comments, including e-mail comments, will be accepted until 5 p.m. on October 29, 2004.

ADDRESSES: See SUPPLEMENTARY INFORMATION for specific locations, times, and dates.

Written comments should be sent to Kathi R. Kitner, South Atlantic Fishery Management Council, One Southpark Circle, Suite 306, Charleston, SC 29407. Comments may also be submitted via e-mail to mackerelcomments@safmc.net.

Copies of the public hearing document are available by contacting the South Atlantic Fishery Management Council, One Southpark Circle, Suite 306, Charleston, SC 29407-4699; telephone: 843-571-4366 or toll free 1-866-SAFMC-10; fax: 843-769-4520; or e-mail: safmc@safmc.net. The public hearing document will also be available at the meetings.

FOR FURTHER INFORMATION CONTACT: Kim Iverson, Public Information Officer; telephone: 843-571-4366 or toll free 1-866-SAFMC-10; fax: 843-769-4520; e-mail: kim.iverson@safmc.net.

SUPPLEMENTARY INFORMATION: The Council has developed proposed actions specified in Draft Amendment 15 to the FMP for Coastal Migratory Pelagic Resources in the Atlantic and Gulf of Mexico. Draft Amendment 15 includes alternatives to limit entry and change the fishing year in the king mackerel fishery. Management alternatives include: a “no action” alternative that would allow the moratorium to expire; an extension of the existing moratorium for a designated time frame; and the establishment of some form of license limitation system. In terms of the fishing year (for king mackerel only), options include: beginning the fishing year on April 1 of each year (status quo); changing the beginning of the fishing year to January 1 of each year; and other possible dates.

These alternatives are described in the Council's public hearing document “Draft Amendment 15 to the Fishery Management Plan for Coastal Migratory Resources in the Atlantic and Gulf of Mexico” (see ADDRESSES for information on obtaining the public hearing document).

Public hearings will be held at the following dates and locations. All meetings are scheduled to begin at 6 p.m.

1. Wednesday, October 6, 2004, Holiday Inn, 3845 Veterans Memorial Highway, Ronkonkoma, NY 11779; telephone: 631-585-9500;

2. Monday, October 11, 2004, Crystal Coast Civic Center, 3505 Arendell Street, Morehead City, NC 28557; telephone: 252-247-3883;

3. Tuesday, October 12, 2004, Bay Watch Resort and Conference Center, (Center Tower, 2nd Floor), 2701 South Ocean Blvd., Myrtle Beach, SC 29584; telephone: 843-361-2110;

4. Wednesday, October 13, 2004, Comfort Inn Oceanfront, 1515 N. First Street, Jacksonville, FL 32250; telephone 904-241-0774; and

5. Thursday, October 14, 2004, Old City Hall, 315 Avenue A, Ft. Pierce, FL 34950; telephone: 772-466-3880.

These meetings will be physically accessible to people with disabilities. Requests for sign language interpretation or other auxiliary aids should be directed to the Council office (see ADDRESSES) by October 8, 2004.

Dated: September 22, 2004.
Alan D. Risenhoover,
Acting Director, Office of Sustainable Fisheries, National Marine Fisheries Service.

[FR Doc. 04-21692 Filed 9-27-04; 8:45 am]

BILLING CODE 3510-22-S